DEPARTMENT OF THE INTERIOR

Bureau of Land Management

[UT-020-1220-MA]

Final Supplementary Rules on Public Lands Within the Knolls Special Recreation Management Area Managed by the Salt Lake Field Office, Utah

AGENCY: Bureau of Land Management, Interior.

ACTION: Notice of final supplementary rules.

SUMMARY: In accordance with the Knolls Recreation Area Management Plan, the Bureau of Land Management (BLM), Salt Lake Field Office is issuing final supplementary rules. The BLM has determined that these rules are necessary to enhance the safety of visitors, protect natural resources, improve recreation opportunities, and protect public health.

DATES: The rules are effective January 30, 2006.

ADDRESSES: You may send inquiries or suggestions to the Bureau of Land Management, Salt Lake Field Office, 2370 S. 2300 W. Salt Lake City, Utah 84119, or via Internet email to: Mail_UT-Salt_Lake@ut.blm.gov.

FOR FURTHER INFORMATION CONTACT: Mandy Rigby, Outdoor Recreation Planner, 2370 S. 2300 W. Salt Lake City, Utah 84119, 801-977-4300. Persons who use a telecommunications device for the deaf (TDD) may contact this individual by calling the Federal Information Relay Service (FIRS) at (800) 877-8339, 24 hours a day, 7 days a week.

SUPPLEMENTARY INFORMATION:

I. Background

The BLM is establishing these final supplementary rules under the authority of 43 CFR 8365.1-6. BLM is issuing these supplementary rules because of health and safety concerns due to current off-highway vehicle use within the Knolls Special Recreation Management Area (SRMA). A significant increase in visitation has occurred within the SRMA, which has led to numerous safety concerns including, but not limited to: glass and campfire remains left in sand dune areas, use of dangerous motorcycle jumps, and excessive motor vehicle speed on maintained roads.

II. Discussion of Comments

These supplementary rules were published as interim final supplementary rules on September 2, 2005, in the Federal Register (70 FR 52440-52443). Comments were solicited in that publication until November 1, 2005, and could be submitted by mail, electronic means, or by telephone. The Salt Lake Field Office received two comments, for which responses are given below. We made no changes as a result of these comments to the supplementary rules.

One comment requested that target shooting be allowed in predefined areas within the Knolls SRMA. An emergency closure to target shooting has been in effect within the Knolls SRMA since July 2000 to protect the safety of visitors. Knolls has been designated as a Special Recreation Management Area for off-highway vehicle (OHV) use and it was determined that the high amount of OHV use and target shooting are not compatible. Target shooting is still allowed on over 96 percent of lands managed by the BLM Salt Lake Field Office.

The second comment questioned the purpose of the fire pan requirement. Because of the high use that is occurring and will increase at Knolls, we determined that requiring the use of fire pans will help prevent the degradation of the natural appearance of the area due to the proliferation of rock fire rings, fire debris, and blackening of the soil. This allows for the continued use of campfires while maintaining and protecting natural resources for all visitors to enjoy. For groups who desire to build a fire that would go beyond the limits of a fire pan, a permit system has been developed to authorize such use on a case-by-case basis.

III. Procedural Matters

Executive Order 12866, Regulatory Planning and Review

These supplementary rules are not a significant regulatory action and are not subject to review by the Office of Management and Budget under Executive Order 12866. These supplementary rules will not have an effect of $100 million or more on the economy. They are not intended to affect commercial activity, but contain rules of conduct for public use of a certain recreational area. They will not adversely affect, in a material way, the economy, productivity, competition, jobs, the environment, public health or safety, or State, local, or Tribal governments or communities. They will not create a serious inconsistency or otherwise interfere with an action taken or planned by another agency. These supplementary rules do not alter the budgetary effects of entitlements, grants, user fees, or loan programs or the right or obligations of their recipients; nor do they raise novel legal or policy issues. They merely impose certain rules on recreational activities on a limited portion of the public lands in Utah in order to protect human health, safety, and the environment.

National Environmental Policy Act

BLM has prepared an environmental assessment (EA) and has found that these supplementary rules would not constitute a major Federal action significantly affecting the quality of the human environment under section 102(2)(C) of the National Environmental Policy Act of 1969 (NEPA), 42 U.S.C. 4332(2)(C). These supplementary rules merely contain rules of conduct for the Knolls SRMA. These rules are designed to protect the environment and the public health and safety. A detailed statement under NEPA is not required. BLM has placed the EA and the Finding of No Significant Impact (FONSI) on file in the BLM Administrative Record at the address specified in the ADDRESSES section.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. These supplementary rules do not pertain specifically to commercial or governmental entities of any size, but to public recreational use of specific public lands. Therefore, BLM has determined under the RFA that these supplementary rules would not have a significant economic impact on a substantial number of small entities.

Small Business Regulatory Enforcement Fairness Act (SBREFA)

These supplementary rules do not constitute a “major rule” as defined at 5 U.S.C. 804(2). They merely contain rules of conduct for recreational use of certain public lands. They have no effect on business, commercial, or industrial use of the public lands.

Unfunded Mandates Reform Act

These supplementary rules do not impose an unfunded mandate on State, local, or Tribal governments or the private sector of more than $100 million per year; nor do they have a significant or unique effect on State, local, or Tribal governments or the private sector. They merely impose reasonable restrictions on recreational activities on certain public lands to protect natural resources and human health and safety. Therefore, BLM is not required to prepare a statement containing the information required by the Unfunded Mandates Reform Act (2 U.S.C. 1531 et seq.).

Executive Order 12630, Governmental Actions and Interference With Constitutionally Protected Property Rights (Takings)

These supplementary rules do not represent a government action capable of interfering with Constitutionally protected property rights. They do not address property rights in any form, and do not cause the impairment of anybody's property rights. Therefore, the Department of the Interior has determined that these rules will not cause a taking of private property or require further discussion of takings implications under this Executive Order.

Executive Order 13132, Federalism

These supplementary rules will not have a substantial direct effect on the states, on the relationship between the national government and the states, or on the distribution of power and responsibilities among the various levels of government. They affect land in only one state, Utah, and do not address jurisdictional issues involving the state government. These supplementary rules do not come into conflict with any state law or regulation. Therefore, in accordance with Executive Order 13132, BLM has determined that these supplementary rules do not have sufficient Federalism implications to warrant preparation of a Federalism Assessment.

Executive Order 12988, Civil Justice Reform

Under Executive Order 12988, the Office of the Solicitor has determined that these supplementary rules will not unduly burden the judicial system and that they meet the requirements of sections 3(a) and 3(b)(2) of the Order. The supplementary rules impose prohibited acts, but they are straightforward and not confusing, and their enforcement should not unreasonably burden the United States Magistrate who will try any persons cited for violating them.

Executive Order 13175, Consultation and Coordination With Indian Tribal Governments

In accordance with Executive Order 13175, we have found that these supplementary rules do not include policies that have Tribal implications. They do not affect lands held for the benefit of Indians, Aleuts, or Eskimos.

Paperwork Reduction Act

These supplementary rules do not contain information collection requirements that the Office of Management and Budget must approve under the Paperwork Reduction Act, 44 U.S.C. 3501 et seq.

Author

The principal author of these supplementary rules is Mandy Rigby, Outdoor Recreation Planner, Salt Lake Field Office, Bureau of Land Management.

Final Supplementary Rules for the Knolls Special Recreation Management Area.

Sec. 1 Definitions

Knolls Special Recreation Management Area (SRMA). The Knolls SRMA encompasses public lands located in:

T. 1 S., R. 12 W., SLM, Secs. 19-23 south of the railroad grade, and 26-35.

T. 2 S., R. 12 W., SLM, Secs. 2-11, and 14-18.

T. 1 S., R. 13 W., SLM, Secs. 19-24 south of the railroad grade, and 25-36.

T. 2 S., R. 13 W., SLM, Secs. 1-18.

Off-highway vehicle. Any motorized vehicle capable of, or designed for, travel on or immediately over land, water, or other natural terrain, excluding:

(1) Any nonamphibious registered motorboat;

(2) Any military, fire, emergency, or law enforcement vehicle being used for emergency purposes;

(3) Any vehicle whose use is expressly authorized by the authorized officer, or otherwise officially approved;

(4) Vehicles in official use; and

(5) Any combat or combat support vehicle when used in times of national defense emergencies.

Primary vehicle: A street legal vehicle used for transportation to the recreation site.

Dangerous weapon(s): Any weapon that in the manner of its use, or intended use, is capable of causing death or serious bodily injury.

Sec. 2 Prohibited Acts

The following supplementary rules will apply to public lands within the Knolls Special Recreation Management Area (SRMA):

a. You must not discharge or use firearms or other dangerous weapons for the purposes of target shooting. This does not include the discharge of firearms or dangerous weapons while person(s) are engaged in bona fide hunting activities during established hunting seasons and are properly licensed for these activities.

b. You must not use or possess to use any glass containers outside of enclosed vehicles, camp trailers, or tents.

c. You must not use or possess to use as firewood any materials containing nails, screws, or other metal hardware, including, but not limited to, wood pallets and/or construction debris.

d. You must not use an accelerant for the purposes of igniting a campfire. However, you may ignite any campfire or other material used for cooking purposes, by using any commercially purchased charcoal igniter or other non-hazardous fuels.

e. You must not drive a motor vehicle through any campfire, or through any flaming debris or other flaming material(s).

f. You must not burn any potentially hazardous material including, but not limited to, gasoline, oil, plastic, and magnesium.

g. You must not ignite a campfire outside the confines of a fire pan or other container. All ashes and unburned fuel from campfires may be disposed of in a small pit excavated with hand tools as long as the material being disposed of is mostly ash. You must not dispose of non-flammable materials in a fire on public lands. BLM may authorize large bonfires, which would go beyond the limit of a fire pan, by permit on a case-by-case basis.

h. You must not operate a motorized vehicle in excess of the posted speed limit on any maintained roadway within the SRMA.

i. You must not operate a motorized vehicle in excess of 15 m.p.h. off of established or maintained roadways within 50 feet of any animals, people, or vehicles.

j. You must not operate or use any audio device, including, but not limited to, a radio, television, musical instrument, other noise producing device, or motorized equipment between the hours of 10 p.m. and 6 a.m. in a manner that makes unreasonable noise that disturbs other visitors.

k. You must not operate an off-highway vehicle without a properly installed spark arrestor.

l. You must not use or possess any man-made ramp or jump, for the purposes of performing acrobatic or aerial stunts.

m. You must not enter, camp, park, or stay longer than one half hour within the SRMA without properly paying required permit fees. Permits must be purchased and visibly displayed in the windshield of all primary vehicles with the date side facing out.

n. You must not camp or use motorized vehicles within 200 feet of any perennial water source or impoundment.

Sec. 3 Penalties

Any person who violates any of these supplementary rules may be tried before a United States Magistrate and fined no more than $1,000 or imprisoned for no more than 12 months, or both. 43 U.S.C. 1733(a); 43 CFR 8360.0-7. Such violations may also be subject to the enhanced fines provided for by 18 U.S.C. 3571.

Dated: November 18, 2005.
Gene R. Terland,
Acting State Director.

[FR Doc. E5-8023 Filed 12-28-05; 8:45 am]

BILLING CODE 4310-DK-P